GENERAL SERVICES ADMINISTRATION

48 CFR Chapter 5

[GSAR ANPR 2006-N01]

RIN 3090-00XX

General Services Administration Acquisition Regulation; GSAR Revision Initiative

AGENCY: Office of the Chief Acquisition Officer, General Services Administration (GSA).

ACTION: Advance notice of proposed rulemaking with request for comments.

SUMMARY: The General Services Administration (GSA) is requesting comments from both Government and industry on areas in which the General Services Administration Acquisition Regulation (GSAR) can be revised to improve clarity and simplify procedures.

DATES: Interested parties should submit comments in writing on or before April 17, 2006 to be considered in the formulation of a proposed rule.

ADDRESSES: Submit written comments identified by GSAR ANPR2006-N01, by using any of the following methods:

• Federal eRulemaking Portal: http://www.regulations.gov. Follow the instructions for submitting comments.

• Agency Web Site: http://www.acqnet.gov/GSAM/gsamproposed.html. Click on the GSAR case number to submit comments.

• E-mail: gsaranpr.2006-N01@gsa.gov. Include GSAR ANPR 2006-N01 in the subject line of the message.

• Fax: 202-501-4067.

• Mail: General Services Administration, Regulatory Secretariat (VIR), 1800 F Street, NW, Room 4035, ATTN: Laurieann Duarte, Washington, DC 20405. Instructions: Please submit comments only and cite GSAR ANPR 2006-N01 in all correspondence related to this case. All comments received will be posted without change to http://www.acqnet.gov/GSAM/gsamcomments.html, including any personal and/or business confidential information provided.

FOR FURTHER INFORMATION CONTACT: The FAR Secretariat, Room 4035, GS Building, Washington, DC, 20405, at (202) 501-4755 for information pertaining to status or publication schedules. For clarification of content, contact Mrs. Althea Kireilis at 202-208-4724. Please cite GSAR ANPR 2006-N01 notice on GSAR Revision Initiative.

SUPPLEMENTARY INFORMATION:

Background

GSA is beginning the review and update of the General Services Administration Acquisition Regulation (GSAR). The GSAR is the regulatory part of the General Services Administration Acquisition Manual (GSAM). The GSAM contains both regulatory and non-regulatory acquisition guidance. The GSAR contains GSA's agency acquisition policies and practices, contract clauses, solicitation provisions, and forms that control the relationship between GSA and contractors and prospective contractors. The GSAM can be found online at www.acqnet.gov/GSAM/gsam.html. The regulatory parts making up the GSAR are the shaded parts of the document at this site. In this ANPR, GSA is seeking comments on the regulatory, or shaded parts, only.

Revisions to the GSAR are necessary to maintain consistency with the FAR, and to implement streamlined and innovative acquisition procedures that contractors, offerors and GSA contracting personnel can utilize when entering into and administering contractual relationships.

In this effort, GSA is asking industry and other interested parties, including Government personnel, to submit suggestion on which parts of the GSAR—

•Should be clarified to provide consistency with the FAR;

• Should be eliminated because they duplicate the FAR or create inconsistencies within the GSAR;

• Have inappropriate references listed to indicate the basis for the regulation;

• Have become irrelevant because of changes in technology or business processes;

• Place unnecessary administrative burdens on contractors and the Government;

• Can be streamlined or simplified;

• Need to be revised to provide new and/or augmented coverage; and

• Unnecessarily impose an adverse significant economic impact on a substantial number of small entities.

Interested parties are requested to provide a rationale for their recommendation and, if possible, suggested language or examples.

This is not a significant regulatory action and, therefore, was not subject to review under Section 6(b) of Executive Order 12866, Regulatory Planning and Review, dated September 30, 1993. This rule is not a major rule under 5 U.S.C. 804.

Dated: February 10, 2006.
Roger D. Waldron,
Acting Senior Procurement Executive, General Services Administration.

[FR Doc. E6-2185 Filed 2-14-06; 8:45 am]

BILLING CODE 6820-EP-S